DEPARTMENT OF COMMERCE

Foreign-Trade Zones Board

[Order No. 1096]

Approval for Extension of Authority of Board Order 744; Foreign-Trade Subzone 59A, Kawasaki Motors Manufacturing Corp., U.S.A. (Utility Work Trucks), Lincoln, NE

Pursuant to its authority under the Foreign-Trade Zones Act of June 18, 1934, as amended (19 U.S.C. 81a-81u), the Foreign-Trade Zones Board (the Board) adopts the following Order:

Whereas, Board Order 744 (60 FR 30518, 6-9-95) granted authority on behalf of Kawasaki Motors Manufacturing Corp., U.S.A. (KMM) to manufacture utility work trucks (i.e., Mules™) under FTZ procedures for an initial period of four years (expires July 1, 2000), subject to extension;

Whereas, KMM, operator of Subzone 59A, has requested authority to extend its manufacturing authority for utility work trucks on a permanent basis;

Whereas, notice inviting public comment was given in the Federal Register (64 FR 25476, 5-12-99);

Whereas, the Board adopts the findings and recommendations of the examiner's report, and finds that the requirements of the FTZ Act and the Board's regulations are satisfied, and that approval of the request would be in the public interest;

Now therefore, the Board hereby approves the request subject to the FTZ Act and the Board's regulations, including § 400.28.

Signed at Washington, DC, this 12th day of June 2000.
Troy H. Cribb,
Acting Assistant Secretary of Commerce for Import Administration, Alternate Chairman, Foreign-Trade Zones Board.
ATTEST:
Dennis Puccinelli,
Acting Executive Secretary.

[FR Doc. 00-15402 Filed 6-16-00; 8:45 am]

BILLING CODE 3510-DS-P